DEPARTMENT OF COMMERCE

Foreign-Trade Zones Board

[B-56-2019]

Foreign-Trade Zone (FTZ) 281—Miami, Florida; Notification of Proposed Production Activity; South Florida Lumber Company; (Steel Frames); Medley, Florida

Miami-Dade County, grantee of FTZ 281, submitted a notification of proposed production activity to the FTZ Board on behalf of South Florida Lumber Company (South Florida Lumber), located in Medley, Florida. The notification conforming to the requirements of the regulations of the FTZ Board (15 CFR 400.22) was received on September 9, 2019.

The South Florida Lumber facility is located within FTZ 281. The facility is used for the production of steel frames as structural support for building construction. Pursuant to 15 CFR 400.14(b), FTZ activity would be limited to the specific foreign-status materials/components and specific finished products described in the submitted notification (as described below) and subsequently authorized by the FTZ Board.

Production under FTZ procedures could exempt South Florida Lumber from customs duty payments on the foreign-status materials/components used in export production (estimated sixty percent of production). On its domestic sales, for the foreign-status materials/components noted below, South Florida Lumber would be able to choose the duty rates during customs entry procedures that apply to angles, shapes and sections of iron and nonalloy steel, metal studs, and steel frames (duty-free). South Florida Lumber would be able to avoid duty on foreign-status components which become scrap/waste. Customs duties also could possibly be deferred or reduced on foreign-status production equipment.

The materials/components sourced from abroad include steel in primary form and flat rolled products of iron or nonalloy steel (duty-free). The request indicates that steel is subject to an antidumping/countervailing duty (AD/CVD) order if imported from certain countries. The FTZ Board's regulations (15 CFR 400.14(e)) require that merchandise subject to AD/CVD orders, or items which would be otherwise subject to suspension of liquidation under AD/CVD procedures if they entered U.S. customs territory, be admitted to the zone in privileged foreign status (19 CFR 146.41). The request also indicates that steel is subject to special duties under Section 232 of the Trade Expansion Act of 1962 (Section 232), depending on the country of origin. The applicable Section 232 decisions require subject merchandise to be admitted to FTZs in privileged foreign status.

Public comment is invited from interested parties. Submissions shall be addressed to the Board's Executive Secretary and sent to: ftz@trade.gov. The closing period for their receipt is November 4, 2019.

A copy of the notification will be available for public inspection in the “Reading Room” section of the Board's website, which is accessible via www.trade.gov/ftz.

For further information, contact Christopher Wedderburn at Chris.Wedderburn@trade.gov or (202) 482-1963.

Dated: September 17, 2019.
Andrew McGilvray,
Executive Secretary.

[FR Doc. 2019-20518 Filed 9-20-19; 8:45 am]

BILLING CODE 3510-DS-P